DEPARTMENT OF TRANSPORTATION

Federal Aviation Administration

Office of Commercial Space Transportation; Notice of Approval on a Record of Decision (ROD) for the SpaceX Texas Launch Site, Cameron County, Texas

AGENCY: The Federal Aviation Administration (FAA), Department of Transportation (DOT).

ACTION: Notice of approval of Record of Decision.

SUMMARY: In accordance with National Environmental Policy Act of 1969, as amended (NEPA; 42 United States Code 4321 et seq.), Council on Environmental Quality NEPA implementing regulations (40 Code of Federal Regulations parts 1500 to 1508), and FAA Order 1050.1E, Change 1, Environmental Impacts: Policies and Procedures, the FAA is announcing the availability of the ROD for the SpaceX Texas Launch Site, Cameron County, Texas. The ROD provides the FAA's final environmental determination and approval to support the issuance of launch licenses and/or experimental permits that would allow Space Exploration Technologies Corp. (SpaceX) to launch the Falcon 9 and Falcon Heavy orbital vertical launch vehicles and a variety of reusable suborbital launch vehicles from a launch site on privately owned property in Cameron County, Texas, as proposed in the Final Environmental Impact Statement (EIS) published in May 2014.

The ROD provides a description of the applicant's Proposed Action and reasonable alternatives, and identifies the FAA's preferred and the environmentally preferred alternative. It includes a discussion of environmental impacts associated with the Proposed Action in each resource area, as analyzed in the Final EIS. The ROD summarizes the mitigation and enforcement actions that would be made the subject of the terms and conditions of the launch licenses and/or experimental permits issued to SpaceX, as well as other conservation and enhancement measures described in the Final EIS and presented for consideration.

The Final EIS, prepared by the FAA for the SpaceX Texas Launch Site, serves as the primary reference and basis for preparation of the ROD. The Final EIS documents the analysis of environmental consequences associated with the construction and operation of the SpaceX Texas Launch Site and the No Action Alternative. The FAA is the lead Federal agency responsible for preparation of the EIS and ROD. Cooperating agencies include the National Aeronautics and Space Administration, National Park Service (NPS), U.S. Army White Sands Missile Range, and U.S. Army Corps of Engineers (USACE). The EIS and ROD were prepared pursuant to the requirements of NEPA, the CEQ Regulations for Implementing the Procedural Provisions of NEPA, and FAA Order 1050.1E, Change 1, Environmental Impacts: Policies and Procedures.

The FAA has posted the ROD on the FAA Web site at http://www.faa.gov/about/office_org/headquarters_offices/ast/environmental/nepa_docs/review/documents_progress/spacex_texas_launch_site_environmental_impact_statement/.

FOR FURTHER INFORMATION CONTACT: Stacey M. Zee, Environmental Specialist, Federal Aviation Administration, 800 Independence Ave. SW., Suite 325, Washington, DC 20591; email Stacey.Zee@faa.gov; or phone (202) 267-9305.

SUPPLEMENTARY INFORMATION: Under the Proposed Action, which is the FAA's preferred alternative, the FAA would issue launch licenses and/or experimental permits to SpaceX that would allow SpaceX to conduct launches of the Falcon 9 and Falcon Heavy orbital vertical launch vehicles, and a variety of reusable suborbital launch vehicles, from an exclusive-use launch site on privately owned property in Cameron County, Texas. The site (including the control center area and vertical launch area) consists of up to four parcels totaling 68.9 acres of land near the terminus of State Highway 4 (Boca Chica Boulevard), adjacent to the village of Boca Chica. The site is in a sparsely populated coastal area on the Gulf of Mexico, approximately 3 miles north of the U.S./Mexico border, 17 miles east-northeast of the Brownsville/South Padre Island International Airport, and 5 miles south of South Padre Island.

Proposed launch operations would consist of up to 12 commercial launch operations per year, including launches of the Falcon 9, a maximum of two Falcon Heavy launches, and/or associated mission rehearsals and static fire engine tests, through 2025.

Falcon 9 and Falcon Heavy launches would have commercial payloads, including satellites or experimental payloads, and may carry a capsule, such as the SpaceX Dragon capsule. The Falcon 9 and Falcon Heavy use liquid fuels including liquid oxygen and rocket propellant-1. Within the 12 launch operations per year, SpaceX may elect to have permitted launches of smaller reusable suborbital launch vehicles from this proposed site. A reusable suborbital launch vehicle could consist of a Falcon 9 Stage 1 tank. All launch trajectories would be to the east over the Gulf of Mexico. The majority of launches would be conducted between the hours of 7:00 a.m. and 7:00 p.m. However, there could be one nighttime launch per year.

In addition, the Proposed Action includes construction of facilities needed to support launch activities at the proposed launch site. SpaceX would construct a vertical launch area and a control center area. The control center area would be approximately 2 miles west of the vertical launch area and could consist of up to three parcels. All facilities would be constructed through private funding, on currently undeveloped, privately-owned property that would be purchased or leased by SpaceX. In addition, a new underground utility line would be installed in the right-of-way of State Highway 4 from the control center area to the vertical launch area.

The FAA identified a range of reasonable alternatives; however, the alternatives identified that did not meet the purpose and need as well as those that were not technically, operationally, or economically prudent or feasible were excluded from detailed consideration in the Final EIS. The Final EIS provides a detailed evaluation of the Proposed Action (Preferred Alternative) and the No Action Alternative. Under the No Action Alternative, the FAA would not issue launch licenses and/or experimental permits to SpaceX for launch operations from the private site in Cameron County, Texas. Thus, SpaceX would not construct the proposed control center and vertical launch areas.

Resource areas were considered to provide a context for understanding and assessing the potential environmental effects of the Proposed Action, with attention focused on key issues. The resource areas considered included Compatible Land Use (including Farmlands and Coastal Resources); Section 4(f) Properties; Noise; Light Emissions and Visual Impacts; Historical, Architectural, Archaeological, and Cultural resources; Air Quality; Water Resources (including Surface Waters, Groundwater, Wetlands, Floodplains, and Wild and Scenic Rivers); Biological Resources (Fish, Wildlife, and Plants); Hazardous Materials, Pollution Prevention, and Solid Waste; Socioeconomics, Environmental Justice, and Children's Environmental Health and Safety Risks; and Natural Resources and Energy Supply.

As stated in the ROD and supported by the Final EIS, the No Action Alternative is not consistent with the purpose and need for action, including the FAA's statutory direction from Congress under the Commercial Space Launch Act to encourage, facilitate, and promote commercial space launch and reentry activities by the private sector in order to strengthen and expand U.S. space transportation infrastructure. The Preferred Alternative, the applicant's Proposed Action, would allow the greatest development and growth of the U.S. commercial space launch industry. Adoption of this alternative will result in the construction and operation of a private launch site that is consistent with the purpose and need for the Proposed Action, while at the same time avoiding, minimizing, and mitigating the harm to the environment. Therefore, the FAA has selected the Preferred Alternative.

Issued in Washington, DC, on July 9, 2014.
Daniel Murray,
Manager, Space Transportation Development Division.

[FR Doc. 2014-16615 Filed 7-14-14; 8:45 am]

BILLING CODE P